FEDERAL COMMUNICATIONS COMMISSION

[CC Docket No. 96-45; DA 03-4113]

NPCR, Inc. d/b/a Nextel Partners Petition for Designation as an Eligible Telecommunications Carrier in the State of Florida

AGENCY: Federal Communications Commission.

ACTION: Notice; solicitation of comments.

SUMMARY: In this document, the Wireline Competition Bureau sought comment on the NPCR, Inc. d/b/a Nextel Partners' petition seeking designation as an eligible telecommunications carrier (ETC) to receive federal universal service support for service offered in certain rural and non-rural study areas in the state of Florida.

DATES: Comments are due on or before February 2, 2004. Reply comments are due on or before February 17, 2004.

ADDRESSES: Federal Communications Commission, 445 Twelfth Street, SW., Washington, DC 20554. See SUPPLEMENTARY INFORMATION for further filing instructions.

FOR FURTHER INFORMATION CONTACT: Karen Franklin, Attorney, Wireline Competition Bureau, Telecommunications Access Policy Division, (202) 418-7400, TTY (202) 418-0484.

SUPPLEMENTARY INFORMATION: This is a summary of the Commission's public notice, CC Docket No. 96-45, DA 03-4113, released December 30, 2003. On September 16, 2003, NPCR, Inc. d/b/a/ Nextel Partners (Nextel Partners) filed a petition seeking designation as an eligible telecommunications carrier (ETC). Nextel Partners provides commercial mobile radio service and seeks designation as an ETC so that it can receive federal universal service support for its service offered in the State of Florida in rural study areas currently served by GTC, Inc.”FL, Frontier Communications'South, ALLTEL Florida, Inc., and Quincey Telephone Company and in non-rural wire centers served by BellSouth Telecommunications, Inc.

Nextel Partners contends that the Florida Public Service Commission (Florida Commission) does not regulate commercial mobile radio service providers for purposes of ETC designations and provides a declaration from the Florida Commission asserting its lack of jurisdiction. Nextel Partners submits that the Commission has jurisdiction under section 214(e)(6) to consider and grant its petition. Nextel Partners also maintains that it satisfies all the statutory and regulatory prerequisites for ETC designation and that its designation as an ETC will serve the public interest.

The petitioner must provide copies of its petition to the Florida Commission. The Commission will also send a copy of this public notice to the Florida Commission by overnight express mail to ensure that the Florida Commission is notified of the notice and comment period.

Pursuant to §§ 1.415 and 1.419 of the Commission's rules, 47 CFR 1.415, 1.419, interested parties may file comments as follows: comments are due February 2, 2004, and reply comments are due February 17, 2004. Comments may be filed using the Commission's Electronic Comment Filing System (ECFS) or by filing paper copies. See Electronic Filing of Documents in Rulemaking Proceedings, 63 FR 24121, May 1, 1998.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be sent to the Commission's Secretary, Marlene H. Dortch, Office of the Secretary, Federal Communications Commission, 445 12th Street, SW., Washington, DC 20554.

Parties also must send three paper copies of their filing to Sheryl Todd, Telecommunications Access Policy Division, Wireline Competition Bureau, Federal Communications Commission, 445 12th Street SW., Room 5-B540, Washington, DC 20554. In addition, commenters must send diskette copies to the Commission's copy contractor, Qualex International, Portals II, 445 12th Street, SW., Room CY-B402, Washington, DC 20054.

Pursuant to § 1.1206 of the Commission's rules, 47 CFR 1.1206, this proceeding will be conducted as a permit-but-disclose proceeding in which ex parte communications are permitted subject to disclosure.

Federal Communications Commission.
Sharon Webber,
Deputy Chief, Wireline Competition Bureau, Telecommunications Access Policy Division.

[FR Doc. 04-1337 Filed 1-21-04; 8:45 am]

BILLING CODE 6712-01-P